FEDERAL COMMUNICATIONS COMMISSION

47 CFR Parts 0, 90 and 95

[WT Docket No. 98-182; FCC 02-139]

1998 Biennial Regulatory Review—Private Land Mobile Radio Services

AGENCY: Federal Communications Commission

ACTION: Final rule.

SUMMARY: In this document, the Commission addresses six petitions for reconsideration or clarification of the Report and Order in WT Docket No. 98-182. The Commission affirms the decision to create a new Citizens Band Radio Service named the Multi-Use Radio Service (MURS), updates the Airport Terminal Use (ATU) and adopts additional revisions to the Commission's rules on its own motion. The Commission also adopts a rule revision to remove the low power restriction from certain frequencies currently reserved for low power operation on a primary basis for cargo handling purposes at docksides. The Commission also eliminates the eligibility restriction on school and park operations in the Public Safety Pool.

DATES: Effective November 12, 2002.

FOR FURTHER INFORMATION CONTACT: Guy Benson, Esquire at (202) 418-2946 <gbenson@fcc.gov>, Mr. Brian Marenco at 418-0838 <bmarenco@fcc.gov>, or John Evanoff, Esquire at 418-0848 <jevanoff@fcc.gov>, Policy and Rules Branch, Public Safety and Private Wireless Division, Wireless Telecommunications Bureau.

SUPPLEMENTARY INFORMATION: This is a summary of the Federal Communications Commission's Memorandum Opinion and Order and Second Report and Order, FCC 02-139, adopted on May 2, 2002 and released on May 23, 2002 as corrected in Erratum DA-02-2256 adopted September 12, 2002 and released September 13, 2002. The full text of this document is available for inspection and copying during normal business hours in the FCC Reference Center, Room CY-A257, 445 12th Street, SW., Washington, DC 20554. The complete text may be purchased from the Commission's copy contractor, Qualex International, 445 12th Street, SW., Room CY-B402, Washington, DC 20554. The full text may also be downloaded at: http://www.fcc.gov. Alternative formats are available to persons with disabilities by contacting Brian Millin at (202) 418-7426 or TTY (202) 418-7365.

1. The major decisions we adopt in the Memorandum Opinion and Order today include:

• MURS: We affirm the decision to license by rule (i.e., eliminate individual licensing for, and instead license by rule) five VHF frequencies that were formerly licensed under Part 90 for low-power, industrial/business use, by placing frequencies in a new Part 95 Citizens Band Radio Service named the Multi-Use Radio Service (MURS).

• Eligibility: We decline to restrict the use of MURS to Part 90 Industrial/Business Pool eligibles. The general public is licensed by rule to use MURS for communications related to personal or business activities.

• Technical provisions: We revise the MURS technical rules to balance the benefits of adding technical flexibility against the disadvantages of potential degradation of the existing operations of business and industrial users. As with other services licensed by rule, the rules we adopt for MURS focus on technical equipment certification requirements. We also clarify that MURS is a two-way, short-distance, voice or data communication service intended for transmissions that do not typically require long duty cycles.

Under the revised rules, MURS units are:

• Permitted to have detachable antennas;

• Permitted to have external antennas up to 6.1 meters (20 feet) above a structure or 18.3 meters (60 feet) above the ground, whichever is higher;

• Permitted to have a total power output (TPO) of up to two (2) watts (instead of two (2) watts effective radiated power);

• Not permitted to be used as cordless telephones, radiofacsimile (imaging), or for continuous carrier mode operations; and

• Not permitted to be used for repeater operations.

• ATU list: We update the Airport Terminal Use (ATU) list found in Section 90.35(c)(61) of the Rules. The ATU list identifies, by name and reference coordinates, the airports at which certain 450 MHz band frequencies are reserved for stations located on or near the airports and used in connection with the servicing and supplying of aircraft.

2. The major decisions we adopt in the Second Report and Order include:

• “Dockside” frequencies for high-power: We also address the comments and other filings in response to the Further Notice in this proceeding. Specifically, we adopt the proposal of the American Automobile Association (AAA) to revise the power limit on certain frequencies currently reserved for low power operations on a primary basis for cargo handling purposes at docksides. We are not, however, adopting AAA's proposal to require all applicants to obtain AAA's concurrence to use these frequencies.

• Public Safety Pool eligibility: We adopt our proposal to eliminate the eligibility restriction on school and park operations in the Public Safety Pool under Section 90.20 of our Rules. We also eliminate the restriction prohibiting State highway maintenance systems from operating on certain Public Safety Pool channels.

I. Procedural Matters

Final Regulatory Flexibility Analysis

3. A Supplemental Final Regulatory Flexibility Analysis with respect to this Memorandum Opinion and Order has been prepared and is included. A Final Regulatory Flexibility Analysis has been prepared for the Second Report and Order and is included.

II. Supplemental Final Regulatory Flexibility Analysis

4. As required by the Regulatory Flexibility Act (RFA), a Final Regulatory Flexibility Analysis (FRFA) was incorporated in Appendix D of the Report and Order and Further Notice of Proposed Rule Making (R&O), 65 FR 60869, October 13, 2000. This Supplemental Final Regulatory Flexibility Analysis (SFRFA) considers the current Memorandum Opinion and Order and Second Report and Order (MO&O) and updates information contained in the FRFA. The present SFRFA, contained in the MO&O, conforms to the RFA.

Need for, and Objectives of, the MO&O

5. This proceeding was initiated in conjunction with the Commission's 1998 biennial review of regulations pursuant to section 11 of the Communications Act of 1934, as amended (the Communications Act). On September 30, 1998, the Commission adopted a NPRM, 63 FR 65568, November 27, 1998, proposing a comprehensive review of the rules applicable to the PLMR services to determine which regulations were not in the public interest, obsolete, overly complex, required editorial change, or were redundant in nature. In the R&O adopted June 29, 2000, the Commission, among other things: expanded the availability of thirty-one “dockside” frequencies, doubled the PLMR license term from five years to ten years, and increased the time period in which certain PLMR stations must be placed in operation. The Commission also clarified the frequency coordination process for Public Safety Pool channels in the 220-222 MHz band and authorized Public Safety Pool licensees to share their licensed radio facilities with federal public safety providers. In addition, the Commission clarified the definitions of centralized and decentralized trunking and established a new process for licensing trunked systems. Finally, the Commission “licensed by rule,” i.e., eliminated the individual licensing requirements for, five VHF frequencies that were allocated to the Part 90 Industrial/Business Pool for low power (1- or 2-watt) operations. Under this decision, the Commission reallocated the five VHF frequencies to the Part 95 Personal Radio Services and established a new Multi-Use Radio Service (MURS) under the Citizens Band Radio Services.

6. The rules adopted in this MO&O continue our efforts to consolidate and streamline the Part 90 Rules, allow more efficient use of the spectrum, and provide Part 90 licensees with greater flexibility and clarity concerning their operations. In particular, we affirm the decision to license by rule (i.e., eliminate individual licensing for, and instead license by rule) five VHF frequencies that were formerly licensed under Part 90 for low-power, industrial/business use, by placing frequencies in a new Part 95 Citizens Band Radio Service named the Multi-Use Radio Service (MURS). In addition, we decline to restrict the use of MURS to Part 90 Industrial/Business Pool eligibles. The general public is licensed by rule to use MURS for communications related to personal or business activities, and we revise the MURS technical rules to balance the benefits of adding technical flexibility against the disadvantages of potential degradation of the existing operations of business and industrial users.

Summary of Significant Issues Raised by the Public in Response to the FRFA

7. No reconsideration petitions discussed issues directly in response to the previous FRFA.

Description and Estimate of the Number of Small Entities to Which Rules Will Apply

8. The RFA directs agencies to provide a description of, and, where feasible, an estimate of the number of small entities that may be affected by the proposed rules, if adopted. The RFA defines the term “small entity” as having the same meaning as the terms “small business,” “small organization,” and “small business concern” under section 3 of the Small Business Act. A small business concern is one which: (1) Is independently owned and operated; (2) is not dominant in its field of operation; and (3) satisfies any additional criteria established by the SBA. Nationwide, as of 1992, there were approximately 275,801 small organizations. “Small governmental jurisdiction” generally means “governments of cities, counties, towns, townships, villages, school districts, or special districts, with a population of less than 50,000.” As of 1992, there were approximately 85,006 such jurisdictions in the United States. This number includes 38,978 counties, cities, and towns; of these, 37,566, or ninety-six percent, have populations of fewer than 50,000. The Census Bureau estimates that this ratio is approximately accurate for all governmental entities. Thus, of the 85,006 governmental entities, we estimate that 81,600 (ninety-one percent) are small entities. Below, we further describe and estimate the number of small entity licensees and regulatees that may be affected by the proposed rules, if adopted.

9. Public Safety radio services and Governmental entities. As a general matter, Public Safety Radio Pool licensees include police, fire, local government, forestry conservation, highway maintenance, and emergency medical services. The SBA rules contain a definition for small radiotelephone (wireless) companies, which encompasses business entities engaged in radiotelephone communications employing no more that 1,500 persons. There are a total of approximately 127,540 licensees within these services. Governmental entities as well as private businesses comprise the licensees for these services. The RFA also includes small governmental entities as a part of the regulatory flexibility analysis. “Small governmental jurisdiction” generally means “governments of cities, counties, towns, townships, villages, school districts, or special districts, with a population of less than 50,000.” As of 1992, there were approximately 85,006 such jurisdictions in the United States. This number includes 38,978 counties, cities and towns; of these, 37,566, or 96 percent, have populations of fewer than 50,000. The Census Bureau estimates that this ratio is approximately accurate for all governmental entities. Thus, of the 85,006 governmental entities, the Commission estimates that 81,600 (91 percent) are small entities.

10. Estimates for PLMR Licensees. Private land mobile radio systems serve an essential role in a vast range of industrial, business, land transportation, and public safety activities. These radios are used by companies of all sizes operating in all U.S. business categories. Because of the vast array of PLMR users, the Commission has not developed a definition of small entities specifically applicable to PLMR users, nor has the SBA developed any such definition. The SBA rules do, however, contain a definition for small radiotelephone (wireless) companies. Included in this definition are business entities engaged in radiotelephone communications employing no more that 1,500 persons. According to the Bureau of the Census, only twelve radiotelephone firms of a total of 1,178 such firms which operated during 1992 had 1,000 or more employees. For the purpose of determining whether a licensee is a small business as defined by the SBA, each licensee would need to be evaluated within its own business area. The Commission's fiscal year 1994 annual report indicates that, at the end of fiscal year 1994, there were 1,101,711 licensees operating 12,882,623 transmitters in the PLMR bands below 512 MHz.

11. Equipment Manufacturers. We anticipate that radio equipment manufacturers will be affected by our decisions in this proceeding. According to the SBA's regulations, a radio and television broadcasting and communications equipment manufacturer must have 750 or fewer employees in order to qualify as a small business concern. Census Bureau data indicate that there are 858 U.S. firms that manufacture radio and television broadcasting and communications equipment, and that 778 of these firms have fewer than 750 employees and would therefore be classified as small entities.

Description of Projected Reporting, Recordkeeping, and Other Compliance Requirements

12. We expect that, at most, the rules adopted herein will result in nominal new reporting, recordkeeping, or other compliance requirements imposed on entities affected in this proceeding.

Steps Taken To Minimize Significant Economic Impact on Small Entities, and Significant Alternatives Considered

13. The RFA requires an agency to describe any significant alternative that it has considered in reaching its proposed approach, which may include the following four alternatives, among others: (1) The establishment of differing compliance or reporting requirements or timetables that take into account the resources available to small entities; (2) the clarification, consolidation, or simplification of compliance or reporting requirements under the rule for small entities; (3) the use of performance, rather than design, standards; and (4) and exemption from coverage.

14. Regarding our decision to express maximum operating power in terms of transmit power output (TPO) rather than effective radiated power (ERP), we do not believe that this will significantly impact small entities. Prior to the creation of MURS, the subject frequencies were restricted in terms of TPO, and our decision to retain this standard will provide continuity as well as the ability for users to utilize detachable gain-adding antennas (which would not be feasible were we to use the ERP standard).

15. Regarding our decision to restrict antenna height to 20 feet above structure or 60 feet above ground, whichever is higher, we do not anticipate any significant impact on small entities. Prior to the creation of MURS, transmitting antennas using the subject frequencies were limited in height due to a provision that restricted the distance between the radio control point and the center of the radiating portion of the antenna. Consequently, the new antenna height limits should not affect small entities that continue to operate on the subject frequencies. Moreover, we believe that antenna height restrictions will benefit small entities in that such restrictions promote spectrum sharing and re-use of the frequencies, thus enabling more small entities to take advantage of this radio service.

16. Regarding our decision to prohibit repeater operations, small (and other) entities wishing to extend the range of communications will not be allowed to do so. On balance, however, this restriction should benefit small entities in that it promotes spectrum sharing and frequency re-use, thus allowing a greater number of users to take advantage of this radio service. Moreover, any potential negative impact on small entities is mitigated due to our decision to grandfather existing operations on the subject frequencies. Consequently, any user that was authorized to use repeaters on the subject frequencies prior to the creation of MURS will continue to be allowed to do so. An alternative would be to allow repeater operations, but we believe that the resulting benefits of extended communications capabilities are outweighed by accommodating a greater number of users on these channels.

17. Regarding our decision to prohibit MURS radios from interconnecting with the Public Switched Network (PSN), small (and other) entities that want to use MURS frequencies for telephone or other interconnected types of service will not be allowed to do so. Allowing interconnection, however, would be inconsistent with the intent of this radio service, which is a two-way, short distance voice and data communications service of short duration. Typically, communications over the PSN last longer than the types of communications envisioned for MURS. An alternative would be to allow interconnection, but because PSN interconnected communications are typically duplex in nature, thus occupying two of five channels in a given area, this would severely limit the number of available channels at one time. In this connection, we believe that the prohibition on PSN interconnection will likely generally benefit small entities in that such restrictions promote spectrum sharing and re-use of the frequencies, thus enabling more small entities to take advantage of this radio service. Finally, any potential negative impact on small entities is mitigated due to our decision to grandfather existing operations on the subject frequencies. Consequently, any user that was authorized to interconnect with the PSN on the subject frequencies prior to the creation of MURS will continue to be allowed to do so.

18. Our decision to prohibit MURS users from operating in the continuous carrier mode, could impact small (and other) entities in that they will be prevented from doing so, and the alternative would be to allow such operations. As with antenna height limits, repeater use, and PSN interconnection, however, we believe that the benefits of increased spectrum sharing and frequency re-use far outweigh the potential negative impact on small entities. Moreover, the potential impact on small entities is mitigated due to our decision to grandfather existing operations on the subject frequencies. Consequently, any user that was authorized to operate in the continuous carrier transmit mode on the subject frequencies prior to the creation of MURS will continue to be allowed to do so.

19. Regarding our decision to prohibit the transmission of lengthy data image signals over MURS, we do not anticipate any significant impact on small entities. Transmissions of this type of communications was never allowed on the subject frequencies and allowing them now in MURS would be inconsistent with the intent of the service.

20. We do not anticipate that our decision to change the permissible bandwidth from 12.5 kHz to 20 kHz for frequencies 154.570 MHz and 154.600 MHz, will have any significant impact on small entities. Prior to the creation of MURS, the permissible bandwidth for these frequencies was 20 kHz, and changing it in the R&O to 12.5 kHz was an inadvertent error.

21. Our decision to prohibit the integration of MURS frequencies and FRS frequencies into a single radio unit, should not have a significant adverse impact on small entities. FRS is a narrowly tailored service intended for private two-way, very short distance voice communications for facilitating family and group activities. Small (and other) businesses are currently not eligible to operate on FRS frequencies and therefore, this prohibition should not have any adverse impact.

22. We also decline to delay the implementation of MURS by declining to adopt a transition/migration period, which might have assisted small entities that might face increased congestion and potential interference from the introduction of non-business operations on the subject frequencies. We have, however, adopted technical restrictions in this Memorandum Opinion and Order to mitigate the potential for harmful interference to small (and other) business operations. Furthermore, as noted above, as the subject frequencies are shared, business users were never insured of interference-or congestion-free operations. Finally, Motorola's suggested migration plan is too speculative, as it relies on the outcome of a pending proceeding. Consequently, based on the totality of the record, we believe that the public interest would not be served were we to delay MURS, and the impact, if any, of this decision on small entities is likely to be minimal.

23. Regarding our decision to update the airport terminal use (ATU) list, we do not anticipate any significant impact on small entities. Small entities that wish to operate on these ATU frequencies will have expanded opportunities to do so. Moreover, this decision should have little impact on small entity non-airport terminal business radio users located near these airports, because such operations will continue to be allowed.

III. Final Regulatory Flexibility Analysis

24. As required by the Regulatory Flexibility Act (RFA), an Initial Regulatory Flexibility Analysis (IRFA) was incorporated in the Report and Order and Further Notice of Proposed Rule Making (Further Notice). The Commission sought written public comment on the proposals in the Further Notice, including comment on the IRFA. This present Final Regulatory Flexibility Analysis (FRFA) conforms to the RFA.

Need for, and Objectives of, the Adopted Rules

25. To further consolidate and streamline the Part 90 of the rules, reduce regulatory requirements, provide Part 90 licensees with greater flexibility concerning their operations, and promote increased spectrum sharing, the Commission amends Part 90 of its rules to (1) remove the restriction preventing school districts and authorities and park districts and authorities from being eligible for licenses in the Public Safety Pool; (2) remove the restriction preventing State highway maintenance systems from operating on certain channels in the Public Safety Pool; and (3) remove the power restriction on seven “dockside” channels in the Industrial/Business Pool.

26. These rule changes are needed in order to give park districts and authorities and school districts and authorities access to spectrum needed for important communications functions. Additionally, we believe that allowing such entities to operate on the Public Safety Pool channels will facilitate interoperability between park or school district personnel and other public safety entities, which can be very important especially during emergencies. Similarly, the inclusion of State highway maintenance systems on certain Public Safety Pool frequencies should give such systems access to spectrum needed for important communications functions. Finally, removal of the power restriction on the dockside channels will facilitate increased range and more reliable communications for Industrial/Business Pool eligibles.

Summary of Significant Issues Raised by Public Comments in Response to the IRFA

27. No comments were submitted specifically in response to the IRFA. We have nonetheless considered the effect of these rule changes on small entities and considered other alternatives. We expect, however, that our actions will benefit all entities subject to these rule changes, including small entities.

Description and Estimate of the Number of Small Entities to Which Rules Will Apply

28. The RFA directs agencies to provide a description of, and, where feasible, an estimate of the number of small entities that may be affected by the proposed rules, if adopted. The RFA defines the term “small entity” as having the same meaning as the terms “small business,” “small organization,” and “small business concern” under section 3 of the Small Business Act. A small business concern is one which: (1) Is independently owned and operated; (2) is not dominant in its field of operation; and (3) satisfies any additional criteria established by the SBA. Nationwide, as of 1992, there were approximately 275,801 small organizations. “Small governmental jurisdiction” generally means “governments of cities, counties, towns, townships, villages, school districts, or special districts, with a population of less than 50,000.” As of 1992, there were approximately 85,006 such jurisdictions in the United States. This number includes 38,978 counties, cities, and towns; of these, 37,566, or ninety-six percent, have populations of fewer than 50,000. The Census Bureau estimates that this ratio is approximately accurate for all governmental entities. Thus, of the 85,006 governmental entities, we estimate that 81,600 (ninety-one percent) are small entities. Below, we further describe and estimate the number of small entity licensees and regulatees that may be affected by the proposed rules, if adopted.

29. Public Safety radio services and Governmental entities. As a general matter, Public Safety Radio Pool licensees include police, fire, local government, forestry conservation, highway maintenance, and emergency medical services. The SBA rules contain a definition for small radiotelephone (wireless) companies, which encompasses business entities engaged in radiotelephone communications employing no more that 1,500 persons. There are a total of approximately 127,540 licensees within these services. Governmental entities as well as private businesses comprise the licensees for these services. The RFA also includes small governmental entities as a part of the regulatory flexibility analysis. “Small governmental jurisdiction” generally means “governments of cities, counties, towns, townships, villages, school districts, or special districts, with a population of less than 50,000.” As of 1992, there were approximately 85,006 such jurisdictions in the United States. This number includes 38,978 counties, cities and towns; of these, 37,566, or 96 percent, have populations of fewer than 50,000. The Census Bureau estimates that this ratio is approximately accurate for all governmental entities. Thus, of the 85,006 governmental entities, the Commission estimates that 81,600 (91 percent) are small entities.

30. Estimates for PLMR Licensees. Private land mobile radio systems serve an essential role in a vast range of industrial, business, land transportation, and public safety activities. These radios are used by companies of all sizes operating in all U.S. business categories. Because of the vast array of PLMR users, the Commission has not developed a definition of small entities specifically applicable to PLMR users, nor has the SBA developed any such definition. The SBA rules do, however, contain a definition for small radiotelephone (wireless) companies. Included in this definition are business entities engaged in radiotelephone communications employing no more that 1,500 persons. According to the Bureau of the Census, only twelve radiotelephone firms of a total of 1,178 such firms which operated during 1992 had 1,000 or more employees. For the purpose of determining whether a licensee is a small business as defined by the SBA, each licensee would need to be evaluated within its own business area. The Commission's fiscal year 1994 annual report indicates that, at the end of fiscal year 1994, there were 1,101,711 licensees operating 12,882,623 transmitters in the PLMR bands below 512 MHz.

31. Equipment Manufacturers. We anticipate that radio equipment manufacturers will be affected by our decisions in this proceeding. According to the SBA's regulations, a radio and television broadcasting and communications equipment manufacturer must have 750 or fewer employees in order to qualify as a small business concern. Census Bureau data indicate that there are 858 U.S. firms that manufacture radio and television broadcasting and communications equipment, and that 778 of these firms have fewer than 750 employees and would therefore be classified as small entities.

Description of Projected Reporting, Recordkeeping and Other Compliance Requirements

32. The Rules adopted in this Order have minimal additional reporting or recordkeeping requirements for PLMR licensees.

Steps Taken To Minimize Significant Economic Impact on Small Entities and Significant Alternatives Considered

33. The RFA requires an agency to describe any significant alternative that it has considered in reaching its proposed approach, which may include the following four alternatives, among others: (1) The establishment of differing compliance or reporting requirements or timetables that take into account the resources available to small entities; (2) the clarification, consolidation, or simplification of compliance or reporting requirements under the rule for small entities; (3) the use of performance, rather than design, standards; and (4) and exemption from coverage.

34. Regarding our decision to eliminate eligibility restrictions on park districts and authorities and school districts and authorities so that these entities may obtain licenses to operate on Public Safety Pool channels, see paras. 52-54, supra, there should be no significant adverse impact on small entities. Indeed, small entities should benefit from this decision, as they will have greater opportunities for licensing now that they will be allowed to operate on the Public Safety Pool frequencies. An alternative to this proposal would be to retain the current rule, which would be unsatisfactory because it would leave the parks without any possibility of operating radio stations for the transmission of communications essential to their official activities.

35. Regarding our decision to eliminate the rule restricting State highway maintenance systems from operating on certain Public Safety Pool frequencies, we do anticipate any adverse impact on small entities. An alternative to this decision would be to continue the prohibition. This would, however, be unsatisfactory, as allowing State highway maintenance systems to operate on the subject frequencies furthers the important Commission goals of increased spectrum sharing and interoperability of public safety communications.

36. Finally, our decision to eliminate the power restriction on seven of the thirty-one “dockside” channels, should not have any adverse impact on small entities. The potential to pair these dockside frequencies with the AERS or other Industrial/Business Pool frequencies will result in greater opportunities for small (and other) business due to increased signal coverage and more reliable communications. In addition, concerns of harmful interference to existing low power users on the subject frequencies are mitigated, because operation on these frequencies will continue to require frequency coordination from a Commission-certified frequency coordinator.

IV. Ordering Clause

37. Pursuant to sections 1, 4(i), 303(f) and (r), 332, and 405 of the Communications Act of 1934, as amended, 47 U.S.C. 1, 154(i), 303(f) and (r), 332, and 405 the Petition for Reconsideration filed by Motorola, Inc. on November 13, 2000, is denied.

38. Pursuant to sections 1, 4(i), 303(f) and (r), 332, and 405 of the Communications Act of 1934, as amended, 47 U.S.C. 1, 154(i), 303(f) and (r), 332, and 405 the Petition for Reconsideration filed by RadioShack Corporation on January 3, 2001, is denied.

39. Pursuant to sections 1, 4(i), 303(f) and (r), 332, and 405 of the Communications Act of 1934, as amended, 47 U.S.C. 1, 154(i), 303(f) and (r), 332, and 405 the Petition for Reconsideration filed by the Personal Radio Steering Group, Inc. on November 13, 2000, is granted to the extent indicated herein and otherwise denied.

40. Pursuant to sections 1, 4(i), 303(f) and (r), 332, and 405 of the Communications Act of 1934, as amended, 47 U.S.C. 1, 154(i), 303(f) and (r), 332, and 405 the Petition for Reconsideration filed by William C. Easterday on November 13, 2000, is dismissed as moot.

41. Pursuant to sections 1, 4(i), 303(f) and (r), 332, and 405 of the Communications Act of 1934, as amended, 47 U.S.C. 1, 154(i), 303(f) and (r), 332, and 405 the Petition for Reconsideration filed by the Personal Communications Industry Association, Inc. on November 13, 2000, is granted.

42. Pursuant to sections 1, 4(i), 303(f) and (r), 332, and 405 of the Communications Act of 1934, as amended, 47 U.S.C. 1, 154(i), 303(f) and (r), 332, and 405 the Petition for Reconsideration filed by the American Association of State Highway and Transportation Officials on November 13, 2000, is granted to the extent indicated herein and otherwise denied.

43. The amendments of the Commission's Rules as set forth in the rule changes are adopted, effective November 12, 2002.

44. The Commission's Consumer and Governmental Affairs Bureau, Reference Information Center, shall send a copy of this Memorandum Opinion and Order and Second Report and Order, WT Docket No. 98-182, including the Supplemental Final and Final Regulatory Flexibility Analyses, to the Chief Counsel for Advocacy of the Small Business Administration.

List of Subjects in 47 CFR Parts 0, 90 and 95

Communications equipment, Radio, Reporting and recordkeeping requirements.

Federal Communications Commission.
Marlene H. Dortch,
Secretary.

Rule Changes

For the reasons discussed in the preamble the Federal Communications Commission amends 47 CFR parts 0, 90 and 95 as follows:

PART 0—COMMISSION ORGANIZATION

1. The authority citation for part 0 continues to read as follows:

Authority: Sec. 5, 48 Stat. 1068, as amended; 47 U.S.C. 155, 225, unless otherwise noted.

2. Section 0.331 is amended by revising paragraph (d) introductory text to read as follows:

§ 0.331 Authority delegated.

* * * * *

(d) Authority concerning rulemaking proceedings. The Chief, Wireless Telecommunications Bureau shall not have the authority to act upon notices of proposed rulemaking and inquiry, final orders in rulemaking proceedings and inquiry proceedings, and reports arising from any of the foregoing except such orders involving ministerial conforming amendments to rule parts, or orders conforming any of the applicable rules to formally adopted international conventions or agreements where novel questions of fact, law, or policy are not involved. In addition, revisions to the airport terminal use list in § 90.35(c)(61) of this chapter need not be referred to the Commission. Also, the addition of new Marine VHF frequency coordination committee(s) to § 80.514 of this chapter need not be referred to the Commission if they do not involve novel questions of fact, policy or law, as well as requests by the United States Coast Guard to:

* * * * *

PART 90—PRIVATE LAND MOBILE RADIO SERVICES

3. The authority citation for part 90 continues to read as follows:

Authority: Sections 4(i), 11, 303(g), 303(r), and 332(c)(7) of the Communications Act of 1934, as amended, 47 U.S.C. 154(i), 161, 303(g), 303(r), 332(c)(7).

4. Amend § 90.20 as follows:

a. Revise paragraph (a)(1)(i).

b. In paragraph (c)(3) remove Limitation code 43 from all frequencies wherever it appears and remove coordinator codes PP and PS from the following frequencies 220.8025 through 220.8475 and 221.8025 through 221.8475.

c. Remove and reserve paragraph (d)(43).

The revisions read as follows:

§ 90.20 Public Safety Pool.

(a) * * *

(1) * * *

(i) A district and an authority;

* * * * *

5. Amend § 90.35 as follows:

a. Revise paragraph (b)(2)(iii).

b. In paragraph (b)(3), remove limitation code 11, from the following frequencies: 457.525, 457.550, 457.5625, 457.575, 457.5875, 457.600 and 457.6125.

c. Revise paragraph (c)(60)(ii) and (c)(60)(iii).

d. Revise paragraph (c)(61)(iii) and (c)(61)(iv).

The revisions read as follows:

§ 90.35 Industrial/Business Pool.

* * * * *

(b) * * *

(2) * * *

(iii) For frequencies above 150 MHz, applications for new or modified facilities on frequencies shared prior to radio service consolidation by the former Manufacturers Radio Service, the Forest Products Radio Service, the Power Radio Service, the Petroleum Radio Service, the Motor Carrier Radio Service, the Railroad Radio Service, the Telephone Maintenance Radio Service and the Automobile Emergency Radio Service may be coordinated by any certified Industrial/Business Pool coordinator. However, in the event that the interference contour of a proposed station would overlap the service contour of an existing station licensed on one of these previously shared frequencies, the written concurrence of the coordinator associated with the industry for which the existing station license was issued, or the written concurrence of the licensee of the existing station, shall be obtained. For the purposes of this § 90.35, the service contour for UHF stations is the 39 dBu contour; and the interference contour for UHF stations is the 21 dBu contour; the service contour for VHF stations is the 37 dBu contour; and the interference contour for VHF stations is the 19 dBu contour.

* * * * *

(c) * * *

(60) * * *

(ii) This frequency is also available for low power non-cargo handling operations, both voice and non-voice, on a secondary basis to cargo handling communications. Such operations are not subject to the power limitations in paragraph (c)(60)(i) of this section on the following frequencies: 457.525 MHz, 457.550 MHz, 457.5625 MHz, 457.575 MHz, 457.5875 MHz, 457.600 MHz, and 457.6125 MHz. This frequency will not be assigned for non-cargo handling operations at temporary locations.

(iii) For mobile relay operations under paragraph (c)(60)(i) of this section, frequency pairing is as follows:

Mobile relay (MHz) ¹ | Mobile (MHz)
457.525 | 467.750
457.53125 | 467.75625
457.5375 | 467.7625
457.54375 | 467.76875
457.550 | 467.775
457.55625 | 467.78125
457.5625 | 467.7875
457.56875 | 467.79375
457.575 | 467.800
457.58125 | 467.80625
457.5875 | 467.8125
457.59375 | 467.81875
457.600 | 467.825
457.60625 | 467.83125
457.6125 |
457.61875 |
¹ The mobile relay frequencies may also be used for single frequency simplex.

(61) * * *

(iii) To stations in the Industrial/Business Pool for secondary use at locations 16 km (10 miles) or more from the coordinates of the listed airports at a maximum transmitter power output of 2 watts. Use of the frequency is restricted to the confines of an industrial complex or manufacturing yard area. Stations licensed prior to November 12, 2002 may continue to operate with facilities authorized as of that date.

(iv) The airports and their respective reference coordinates are (coordinates are referenced to North American Datum 1983 (NAD83)):

City and airport | Reference coordinates: N. Latitude | Reference coordinates: W. Longitude
Aberdeen, SD: Aberdeen Regional (ABR) | 45°26′56.6′′ | 98°25′18.6′′
Agana, GU: Guam International (GUM) | 13°29′00.4 | 144°47′45.5′′ E
Akron, OH: Akron-Canton Regional (CAK) | 40°54′58.7′′ | 81°26′32.9′′
Alamosa, CO: San Luis Valley Regional/Bergman Field (ALS) | 37°26′05.7′′ | 105°51′59.6″
Albany, NY: Albany Int'l (ALB) | 42°44′53.2′′ | 73°48′10.7′′
Albuquerque, NM: Albuquerque International Sunport (ABQ) | 35°02′24.8′′ | 106°36′33.1″
Allentown-Bethlehem, PA: Lehigh Valley Int'l (ABE) | 40°39′08.5′′ | 75°26′25.5′′
Amarillo, TX: Amarillo International (AMA) | 35°13′09.7′′ | 101°42′21.3′′
Anchorage, AK: Ted Stevens Anchorage International (ANC) | 61°10′27.6′′ | 149°59′46.3″
Appleton, WI: Outagamie County Regional (ATW) | 44°15′26.7′′ | 88°31′10.1′′
Aspen, CO: Aspen-Pitkin County/Sardy Field (ASE) | 39°13′23.4′′ | 106°52′07.9′′
Atlanta, GA:
Atlanta International (ATL) | 33°38′25.6′′ | 84°25′37.0′′
Dekalb-Peachtree (PDK) | 33°52′32.2′′ | 84°18′07.1′′
Fulton County (FTY) | 33°46′44.9′′ | 84°31′16.9′′
Austin, TX: Austin Bergstrom International (AUS) | 30°11′40.3′′ | 97°40′11.5′′
Bakersfield, CA: Meadows Field (BFL) | 35°26′00.9′′ | 119°03′24.4′′
Baltimore, MD: Baltimore-Washington Int'l (BWI) | 39°10′31.5′′ | 76°40′05.5′′
Baton Rouge, LA: Baton Rouge Metropolitan (BTR) | 30°31′59.4′′ | 91°08′58.7′′
Billings, MT: Billings Logan International (BIL) | 45°48′27.6′′ | 108°32′34.3′′
Birmingham, AL: Birmingham Int'l (BHM) | 33°33′46.6′′ | 86°45′12.8′′
Bismarck, ND: Bismarck Municipal (BIS) | 46°46′21.8′′ | 100°44′44.7′′
Boise, ID: Boise Air Terminal (BOI) | 43°33′52.0′′ | 116°13′22.0′′
Boston, MA: Logan International (BOS) | 42°21′51.7′′ | 71°00′18.7′′
Bozeman, MT: Gallatin Field (BZN) | 45°46′36.8′′ | 111°09′10.8″
Bridgeport, CT: Sikorsky Memorial (BDR) | 41°09′48.5′′ | 73°07′34.2′′
Buffalo, NY: Buffalo Niagara Int'l (BUF) | 42°56′25.9′′ | 78°43′55.8′′
Burlington, VT: Burlington Int'l (BTV) | 44°28′18.7′′ | 73°09′11.8′′
Cedar Rapids, IA: The Eastern Iowa (CID) | 41°53′04.5′′ | 91°42′39.1′′
Charleston, SC: Charleston AFB/International (CHS) | 32°53′55.1′′ | 80°02′25.8′′
Charlotte, NC: Charlotte-Douglas Int'l (CLT) | 35°12′50.4′′ | 80°56′35.3′′
Chattanooga, TN: Lovell (CHA) | 35°02′06.9′′ | 85°12′13.6′′
Chicago, IL-Northwest, IN:
Chicago-Wheeling-Palwaukee (PWK) | 42°06′51.1′′ | 87°54′05.3′′
Meigs (CGX) | 41°51′31.8′′ | 87°36′28.5′′
South Bend Regional (SBN) | 41°42′32.2′′ | 86°19′06.5′′
Midway (MDW) | 41°47′09.5″ | 87°45′08.7″
O'Hare International (ORD) | 41°58′46.5″ | 87°54′16.1″
West Chicago-Dupage (DPE) | 41°54′24.8″ | 88°14′54.3″
Cincinnati, OH:
Cincinnati-Blue Ash (ISZ) | 39°14′48.1″ | 84°23′20.3″
Lunken (LUK) | 39°06′12.0″ | 84°25′07.0″
Cleveland, OH:
Burke Lakefront (BKL) | 41°31′03.0″ | 81°41′00.0″
Cuyahoga County (CGF) | 41°33′54.5″ | 81°29′10.9″
Hopkins International (CLE) | 41°24′39.2″ | 81°50′57.8″
Columbia, SC: Columbia Metropolitan (CAE) | 33°56′19.8″ | 81°07′10.3″
Columbus, GA: Columbus Metropolitan (CSG) | 32°30′58.8″ | 84°56′19.9″
Columbus, OH:
Port Columbus Int'l (CMH) | 39°59′52.8″ | 82°53′30.8″
Rickenbacker International (LCK) | 39°48′49.5″ | 82°55′40.3″
Corpus Christi, TX: Corpus Christi International (CRP) | 27°46′13.3″ | 97°30′04.4″
Covington/Cincinnati, KY: Cincinnati/Northern Kentucky Int'l (CVG) | 39°02′46.1″ | 84°39′43.8″
Crescent City, CA: Jack McNamara Field (CEC) | 41°46′48.6″ | 124°14′11.5″
Dallas, TX:
Addison (ADS) | 32°58′06.8″ | 96°50′11.2″
Dallas-Ft. Worth Int'l (DFW) | 32°53′45.4″ | 97°02′13.9″
Dallas-Love Field (DAL) | 32°50′49.6″ | 96°51′06.4″
Red Bird (RBD) | 32°40′51.1″ | 96°52′05.5″
Davenport, IA (Rock Island, Moline, IL):
Davenport Municipal (DVN) | 41°36′37.0″ | 90°35′18.0″
Quad City (MLI) | 41°26′54.7″ | 90°30′27.1″
Dayton, OH: Dayton International (DAY) | 39°54′08.6″ | 84°13′09.8″
Denver, CO:
Centennial (APA) | 39°34′12.5″ | 104°50′57.5″
Colorado Springs Municipal (COS) | 38°48′20.9 | 104°42′00.9″
Jeffco (BJC) | 39°54′31.6″ | 105°07′01.9″
Denver International (DEN) | 39°51′30.3″ | 104°40′01.2″
Des Moines, IA: Des Moines Int'l (DSM) | 41°32′05.8″ | 93°39′38.5″
Detroit, MI:
Detroit City (DET) | 42°24′33.1″ | 83°00′35.5″
Detroit Metro-Wayne County (DTW) | 42°12′43.4″ | 83°20′55.8″
Oakland-Pontiac (PTK) | 42°39′54.7″ | 83°25′07.4″
Willow Run (YIP) | 42°14′16.5″ | 83°31′49.5″
Duluth, MN: Duluth International (DLH) | 46°50′31.5″ | 92°11′37.1″
Durango, CO: Durango-La Plata County (DRO) | 37°09′05.5″ | 107°45′13.6″
Eagle, CO: Eagle County Regional (EGE) | 39°38′33.2″ | 106°55′03.7″
El Paso, TX: El Paso International (ELP) | 31°48′24.0″ | 106°22′40.1″
Eugene, OR: Mahlon Sweet Field (EUG) | 44°07′23.7″ | 123°13′07.3″
Eureka, CA: Eureka Municipal (033) | 40°46′51.4″ | 124°12′44.2″
Fargo, ND: Hector International (FAR) | 46°55′09.7″ | 96°48′53.9″
Flint, MI: Bishop (FNT) | 42°57′55.8″ | 83°44′36.4″
Ft. Lauderdale-Hollywood, FL:
Ft. Lauderdale Executive (FXE) | 26°11′50.2″ | 80°10′14.6″
Ft. Lauderdale-Hollywd Int'l (FLL) | 26°04′21.3″ | 80°09′09.9″
Ft. Meyers, FL: Page Field (FMY) | 26°35′11.8″ | 81°51′47.7″
Ft. Meyers, FL: Southwest Florida International (RSW) | 26°32′10.2″ | 81°45′18.6″
Ft. Wayne, IN: Fort Wayne International (FWA) | 40°58′42.5″ | 85°11′42.5″
Ft. Worth, TX:
Fort Worth Alliance (AFW) | 32°59′12.5″ | 97°19′07.7″
Meacham (FTW) | 32°49′11.2″ | 97°21′44.8″
Fresno, CA:
Fresno-Chandler Downtown (FCH) | 36°43′56.5″ | 119°49′11.6″
Fresno Yosemite Int'l (FAT) | 36°46′34.3″ | 119°43′05.3″
Gainesville, FL: Gainesville Regional (GNV) | 29°41′24.2″ | 82°16′18.4″
Grand Forks, ND: Grand Forks International (GFK) | 47°56′57.3″ | 97°10′34.0″
Grand Rapids, MI: Gerald R. Ford Int'l (GRR) | 42°52′51.0″ | 85°31′22.1″
Great Falls, MT: Great Falls International (GTF) | 47°28′55.2″ | 111°22′14.5″
Green Bay, WI: Austin Straubel Int'l (GRB) | 44°29′06.3″ | 88°07′46.5″
Greensboro, NC: Piedmont Tirad International (GSO) | 36°05′51.9″ | 79°56′14.3″
Greer, SC: Greenville-Spartanburg Int'l (GSP) | 34°53′44.4″ | 82°13′07.9″
Gunnison, CO: Gunnison County (GUC) | 38°32′02.2″ | 106°55′58.9″
Hana, HI: Hana (HNM) | 20°47′44.3″ | 156°00′52.0″
Harlingen, TX: Valley International (HRL) | 26°13′42.6″ | 97°39′15.8″
Harrisburg, PA:
Capital City (CXY) | 40°13′01.7″ | 76°51′05.3″
Harrisburg Int′l (MDT) | 40°11′36.6″ | 76°45′48.3″
Hartford, CT (Windsor Locks):
Bradley Int'l (BDL) | 41°56′20.0″ | 72°40′59.6″
Hartford-Brainard (HFD) | 41°44′10.6″ | 72°39′00.8″
Hayden, CO: Yampa Valley (HDN) | 40°28′52.2″ | 107°13′03.6″
Hilo, HI: Hilo Int'l (ITO) | 19°43′12.9″ | 155°02′54.5″
Honolulu, HI: Honolulu International (HNL) | 21°19′07.3″ | 157°55′20.7″
Houston, TX:
W.P. Hobby (HOU) | 29°38′43.5″ | 95°16′44.0″
D.W. Hooks Memorial (DWH) | 30°03′42.7″ | 95°33′10.0″
George Bush Intercontinental (IAH) | 29°58′49.7″ | 95°20′23.0″
Indianapolis, IN: Indianapolis Int'l (IND) | 39°43′02.4″ | 86°17′39.8″
Jackson Hole, WY: Jackson Hole (JAC) | 43°36′26.4″ | 110°44′15.9″
Jacksonville, FL:
Craig Municipal (CRG) | 30°20′10.8″ | 81°30′52.0″
Jacksonville Int′l (JAX) | 30° 29′38.6″ | 81°41′16.3″
Kalamazoo, MI: Kalamazoo/Battle Creek International (AZO) | 42°14′05.5″ | 85°33′07.4″
Kalispell, MT: Glacier Park International (FCA) | 48°18′41.1″ | 114°15′18.2″
Kansas City, MO-KS:
Kansas City Int'l (MCI) | 39°17′51.4″ | 94°42′50.1″
Kansas City Municipal Dntn (MKC) | 39°07′23.7″ | 94°35′33.9″
Kauna Kakai, HI: Molokai (MKK) | 21°09′10.4″ | 157°05′46.5″
Knoxville, TN: McGhee Tyson (TYS) | 35°48′44.9″ | 83°59′34.3″
Lacrosse, WI: Lacrosse Municipal (LSE) | 43°52′46.5″ | 91°15′24.6″
Lansing, MI: Capital City (LAN) | 42°46′43.3″ | 84°35′14.5″
Las Vegas, NV: McCarran Int'l (LAS) | 36°04′49.3″ | 115°09′08.4″
Lihue, HI: Lihue (LIH) | 21°58′33.5″ | 159°20′20.3″
Lincoln, NE: Lincoln Municipal (LNK) | 40°51′03.5″ | 96°45′33.3″
Little Rock, AR: Adams Field (LIT) | 34°43′48.8″ | 92°13′27.3″
Los Angeles,CA:
Burbank-Glendale-Pasadena (BUR) | 34°12′02.2″ | 118°21°30.6″
Catalina (AVX) | 33°24′17.8″ | 118°24′57.1″
Long Beach-Daugherty Field (LGB) | 33°49′03.8″ | 118°09′05.8″
Los Angeles Int'l (LAX) | 33°56′33.1″ | 118°24′29.1″
Ontario Int'l (ONT) | 34°03′21.6″ | 117°36′04.3″
Santa Ana-John Wayne-Orange City (SNA) | 33°40′32.4,″ | 117°52′05.6″
Louisville, KY: Louisville Int'l-Standiford Field (SDF) | 38°10′27.8″ | 85°44′09.6″
Lubbock, TX: Lubbock International (LBB) | 33°39′49.1″ | 101°49′22.0″
Lynchburg, VA: Lynchburg Regional-Preston Glen Field (LYH) | 37°19′36.1″ | 79°12′01.6″
Madison, WI: Dane County Regional-Truax Field (MSN) | 43°08°23.5″ | 89°20′15.1″
Manchester, NH: Manchester (MHT) | 42°56′04.3″ | 71°26′13.4″
Memphis, TN: Memphis Int'l (MEM) | 35°02′32.7″ | 89°58′36.0″
Miami, FLA:
Miami Int'l (MIA) | 25°47′35.7″ | 80°17′26.0″
Opa Locka (OPF) | 25°54′25.2″ | 80°16′42.2″
Kendall-Tamiami Executive (TMB) | 25°38′52.4″ | 80°25′58.0″
Milwaukee, WI: General Mitchell Int'l (MKE) | 42°56′50.0″ | 87°53′47.7″
Minneapolis-St. Paul, MN: Minneapolis-St. Paul Int'l (MSP) | 44°52′49.9″ | 93°13′00.9″
Minot, ND: Minot International (MOT) | 48°15′33.8″ | 101°16′49.2″
Missoula, MT: Missoula International (MSO) | 46°54′58.7″ | 114°05′26.0″
Mobile, AL: Mobile Regional (MOB) | 30°41′29.1″ | 88°14′34.2″
Modesto, CA: Modesto City-County (MOD) | 37°37′32.9″ | 120°57′15.9″
Monterey, CA: Monterey Peninsula (MRY) | 36°35′13.1″ | 121°50′34.6″
Montrose, CO: Montrose Regional (MTJ) | 38°30′31.9″ | 107°53′37.8″
Nashville, TN: Nashville Int'l (BNA) | 36°07′28.1″ | 86°40′41.5″
New Haven, CT: Tweed-New Haven Municipal (HVN) | 41°15′50.0″ | 72°53′13.6″
New Orleans, LA:
Lakefront (NEW) | 30°02′32.7″ | 90°01′41.7″
New Orleans Int'l (MYS) | 29°59′36.2″ | 90°15′28.9″
Newburgh, NY: Stewart International (SWF) | 41°30′14.7″ | 74°06′17.4″
Newport News-Hampton,VA: Newport News/Williamsburg (PHF) | 37°07′54.8″ | 76°29′34.8″
New York-Northeast, NJ:
Republic (FRG) | 40°43′43.6″ | 73°24′48.3″
JFK International (JFK) | 40°38′23.1″ | 73°46′44.1″
LaGuardia (LGA) | 40°46′38.1″ | 73°52′21.4″
Long Island-McArthur (ISP) | 40°47′42.8″ | 73°06′00.8″
Morristown Municipal (NJ) (MMU) | 40°47′57.7″ | 74°24′53.5″
Newark Int'l (FWR) | 40°41′32.9″ | 74°10′07.2″
Teterboro (NJ) (TEB) | 40°51′00.4″ | 74°03′39.0″
Norfolk, VA: Norfolk Int'l (ORF) | 36°53′40.6″ | 76°12′04.4″
Oklahoma City, OK:
Wiley Post (PWA) | 35°32′04.4″ | 97°38′49.9″
Will Rogers World (OKC) | 35°23′35.1″ | 97°36′02.6″
Omaha, NE: Eppley Airfield (OMA) | 41°18′09.1″ | 95° 53′39.0″
Orlando, FL:
Orlando Executive (ORL) | 28°32′43.7″ | 81°19′58.6″
Orlando Int'l (MCO) | 28°25′44.0″ | 81°18′57.7″
Palm Springs, CA: Palm Springs International (PSP) | 33°49′46.8″ | 116°30′24.1″
Peoria, IL: Greater Peoria Regional (PIA) | 40°39′51.3″ | 89°41′35.9″
Philadelphia, PA-NJ:
Northeast Philadelphia (PNE) | 40°04′55.0″ | 75°00′38.1″
Philadelphia Int'l (PHL) | 39°52′19.0′′ | 75°14′28.1″
Phoenix, AZ:
Phoenix-Sky Habor Int'l (PHX) | 33°26′03.0″ | 112°00′29.0″
Scottsdale (SDL) | 33°37′22.3″ | 111°54′37.9″
Pittsburgh, PA:
Allegheny County (AGC) | 40°21′15.9″ | 79°55′48.9″
Pittsburgh Int'l (PIT) | 40°29′29.3″ | 80°13′58.3″
Portland, ME: Portland International Jetport (PWM) | 43°38′46.2″ | 70°18′31.5″
Portland, OR:
Portland-Hillsboro (HIO) | 45°32′25.4″ | 122°56′59.4″
Portland International (PDX) | 45°35′19.4″ | 122°35′51.0″
Portland-Troutdale (TTD) | 45°32′57.7″ | 122°24′04.5″
Providence-Pawtucket, RI-MA:
North Central State (SFZ) | 41°55′14.7″ | 71°29′29.0″
T.F. Green State (PVD) | 41°43′26.4″ | 71°25′41.6″
Pueblo, CO: Pueblo Memorial (PUB) | 38°17′20.7″ | 104°29′47.7″
Raleigh/Durham, NC: Raleigh-Durham International (RDU) | 35°52′39.5′′ | 78°47′14.9′′
Rapid City, SD: Rapid City Regional (RAP) | 44°02′43.2′′ | 103°03′26.5′′
Reno, NV: Reno/Tahoe International (RNO) | 39°29′54.8′′ | 119°46′05.0′′
Richmond, VA: Richmond International (RIC) | 37°30′18.6′′ | 77°19′10.8′′
Roanoke, VA: Roanoke Regional/Woodrum Field (ROA) | 37°19′31.7′′ | 79°58′31.5′′
Rochester, MN: Rochester International (RST) | 43°54′26.0′′ | 92°29′56.4′′
Rochester, NY: Greater Rochester Int'l (ROC) | 43°07′07.9′′ | 77°40′20.6′′
Sacramento, CA:
Sacramento Executive (SAC) | 38°30′45.1′′ | 121°29′36.5′′
Sacramento Int'l (SMF) | 38°41′43.5′′ | 121°35′26.8′′
Saginaw, MI: MBS International (MBS) | 43°31′58.5′′ | 84°04′46.7′′
Saipan Isl., CQ: Saipan International (GSN) | 15°07′08.4′′ | 145°43′45.7′′ E
St. Louis, MO-IL:
Spirit of St. Louis (SUS) | 38°39′42.7′′ | 90°39′04.4′′
St. Louis-Lambert Int'l (STC) | 38°44′51.7′′ | 90°21′35.9′′
St. Petersburg, FL:
Albert Whitted Municipal (SPG) | 27°45′54.4′′ | 82°37′37.1′′
St. Petersburg Clearwater Int'l (PIE) | 27°54′38.8′′ | 82°41′14.9′′
Salt Lake City, UT: Salt Lake City Int'l (SLC) | 40°47′18.2′′ | 111°58′39.9′′
San Antonio, TX: San Antonio Int'l (SAT) | 29°32′01.3′′ | 98°28′11.2′′
San Diego, CA: San Diego Lindbergh Int'l (SAN) | 32°44′00.8′′ | 117°11′22.8′′
San Francisco-Oakland, CA:
Metropolitan Oakland Int'l (OAK) | 37°43′16.7′′ | 122°13′14.6′′
San Francisco Int'l (SFO) | 37°37′08.4′′ | 122°22′29.4′′
San Jose, CA: San Jose Int'l (SJC) | 37°21′42.7′′ | 121°55′44.4′′
San Juan, PR: Luis Munoz (SJU) | 18°26′21.9′′ | 66°00′06.6′′
Santa Barbara, CA: Santa Barbara Municipal (SBA) | 34°25′34.4′′ | 119°50′25.3′′
Santa Fe, NM: Santa Fe Municipal (SAF) | 35°37′00.4′′ | 106°05′17.3′′
Sarasota, FL: Sarasota/Bradenton International (SRQ) | 27°23′43.2′′ | 82°33′14.8′′
Savannah, GA: Savannah International (SAV) | 32°07′39.3′′ | 81°12′07.7″
Seattle, WA:
Boeing/King County Int'l (BFI) | 47°26′47.9′′ | 122°18′33.5′′
Seattle-Tacoma Int'l (SEA) | 47°26′56.3′′ | 122°18′33.5′′
Shreveport, LA:
Shreveport Downtown (DTN) | 32°32′24.8″ | 93°44′42.1″
Shreveport Regional (SHV) | 32°26′47.9″ | 93°49′32.2″
Sioux City, IA: Sioux Gateway (SUX) | 42°24′09.4″ | 96°23′03.7″
Sioux Falls, SD: Joe Foss Field (FSD) | 43°34′52.9″ | 96°44′30.1″
South Bend, IN: South Bend Regional (SBN) | 41°42′32.2″ | 86°19′06.5″
Spokane, WA:
Grant County Int'l (MWH) | 47°12′27.5″ | 119°19′12.7″
Spokane Int'l (GEG) | 47°37′11.5″ | 117°32′01.8″
Springfield, MA:
Barnes Municipal (BAF) | 42°09′27.8″ | 72°42′56.2″
Westover ARB/Metropolitan (CEF) | 42°11′53.8″ | 72°32′03.3″
Springfield, MO: Springfield-Branson Regional (SGF) | 37°14′39.6″ | 93°23′12.7″
Syracuse, NY: Syracuse-Hancock Int'l (SYR) | 43°06′40.3″ | 76°06′22.7″
Tacoma, WA: Tacoma Narrows (TIW) | 47°16′04.6″ | 122°34′41.2″
Tallahassee, FL: Tallahassee Regional (TLH) | 30°23′47.5″ | 84°21′01.2″
Tampa, FL: Tampa Int'l (TPA) | 27°58′31.7″ | 82°31′59.7″
Telluride, CO: Telluride Regional (TEX) | 37°57′13.5″ | 107°54′30.5″
Toledo, OH: Toledo Express (TOL) | 41°35′12.5″ | 83°48′28.2″
Trenton, NJ-PA: Trenton Mercer (TTN) | 40°16′36.1″ | 74°48′48.5″
Tucson, AZ: Tucson Int'l (TUS) | 32°06′57.9″ | 110°56′27.7″
Tulsa, OK:
R.L. Jones, Jr. (RVS) | 36°02′22.7″ | 95°59′04.7″
Tulsa Int'l (TUL) | 36°11′54.1″ | 95°53′17.7″
Washington, DC:
Dulles International (IAD) | 38°56′40.3″ | 77°27′20.9″
Ronald Reagan National (DCA) | 38°51′07.5″ | 77°02′15.8″
Waterloo, IA: Waterloo Municipal (ALO) | 42°33′25.5″ | 92°24′01.2″
West Palm Beach, FL: Palm Beach International (PBI) | 26°40′59.4″ | 80°05′44.1″
White Plains, NY: Westchester County (HPN) | 41°04′01.1″ | 73°42′27.3″
Wichita, KS: Mid-Continent (ICT) | 37°38′59.9″ | 97°25′58.9″
Scranton, PA: Wilkes-Barre/Scranton Int'l (AVP) | 41°20′17.3″ | 75°43′27.4″
Wilmington, DE: New Castle County (ILG) | 39°40′43.4″ | 75°36′23.5″
Worcester, MA: Worcester Regional (ORH) | 42°16′02.4″ | 71°52′32.6″
Youngstown-Warren, OH-PA: Youngstown-Warren Regional (YNG) | 41°15′38.7″ | 80°40′44.8″
¹ Coordinates followed by an “E” are east longitude.

6. Section 90.175 is amended by revising paragraph (b)(1) to read as follows:

§ 90.175 Frequency coordination requirements.

* * * * *

(b) * * * (1) A statement is required from the applicable frequency coordinator as specified in §§ 90.20(c)(2) and 90.35(b) recommending the most appropriate frequency. In addition, for frequencies above 150 MHz, if the interference contour of a proposed station would overlap the service contour of a station on a frequency formerly shared prior to radio service consolidation by licensees in the Manufacturers Radio Service, the Forest Products Radio Service, the Power Radio Service, the Petroleum Radio Service, the Motor Carrier Radio Service, the Railroad Radio Service, the Telephone Maintenance Radio Service or the Automobile Emergency Radio Service, the written concurrence of the coordinator for the industry-specific service, or the written concurrence of the licensee itself, must be obtained. Requests for concurrence must be responded to within 20 days of receipt of the request. The written request for concurrence shall advise the receiving party of the maximum 20 day response period. The coordinator's recommendation may include comments on technical factors such as power, antenna height and gain, terrain and other factors which may serve to minimize potential interference. In addition:

* * * * *

7. Section 90.210 is amended by revising the introductory text of paragraphs (b), (c), (g), (h), (i), and (j) to read as follows:

§ 90.210 Emission masks.

* * * * *

(b) Emission Mask B. For transmitters that are equipped with an audio low-pass filter, the power of any emission must be attenuated below the unmodulated carrier power (P) as follows:

* * * * *

(c) Emission Mask C. For transmitters that are not equipped with an audio low-pass filter, the power of any emission must be attenuated below the unmodulated carrier output power (P) as follows:

* * * * *

(g) Emission Mask G. For transmitters that are not equipped with an audio low-pass filter, the power of any emission must be attenuated below the unmodulated carrier power (P) as follows:

* * * * *

(h) Emission Mask H. For transmitters that are not equipped with an audio low-pass filter, the power of any emission must be attenuated below the unmodulated carrier power (P) as follows:

* * * * *

(i) Emission Mask I. For transmitters that are equipped with an audio low pass filter, the power of any emission must be attenuated below the unmodulated carrier power of the transmitter (P) as follows:

* * * * *

(j) Emission Mask J. For transmitters that are not equipped with an audio low-pass filter, the power of any emission must be attenuated below the unmodulated carrier power of the transmitter (P) as follows:

* * * * *

§ 90.242 [Amended]

8. In § 90.242 remove and reserve paragraph (a)(1).

PART 95—PERSONAL RADIO SERVICES

9. The authority citation for part 95 continues to read as follows:

Authority: Secs. 4, 303, 48 Stat. 1066, 1082, as amended; 47 U.S.C. 154, 303.

10. Section 95.401 is amended by revising paragraph (f) to read as follows:

§ 95.401 (CB Rule 1) What are the Citizens Band Radio Services?

* * * * *

(f) The Multi-Use Radio Service (MURS)—a private, two-way, short-distance voice or data communications service for personal or business activities of the general public. The rules for this service are contained in subpart J of this part.

11. Section 95.603 is amended by revising paragraph (g) to read as follows:

§ 95.603 Certification required.

* * * * *

(g) Each Multi-Use Radio Service transmitter (a transmitter that operates or is intended to operate in the MURS) must be certificated in accordance with Subpart J of Part 2 of this chapter, Provided however, that those radio units certificated as of November 12, 2002 need not be recertificated.

12. Section 95.631 is amended by revising paragraph (j) as follows:

§ 95.631 Emission types.

* * * * *

(j) A MURS transmitter must transmit only emission types A1D, A2B, A2D, A3E, F2B, F1D, F2D, F3E, G3E. Emission types A3E, F3E and G3E include selective calling or tone-operated squelch tones to establish or continue voice communications. MURS transmitters are prohibited from transmitting in the continuous carrier mode.

13. Section 95.632 is amended by revising paragraph (b) to read as follows:

§ 95.632 MURS transmitter frequencies.

* * * * *

(b) The authorized bandwidth is 11.25 kHz on frequencies 151.820 MHz, 151.880 MHz and 151.940 MHz. The authorized bandwidth is 20.0 kHz on frequencies 154.570 and 154.600 MHz.

* * * * *

14. Section 95.633 is amended by revising paragraph (f) to read as follows:

§ 95.633 Emission bandwidth.

* * * * *

(f) The authorized bandwidth for any emission type transmitted by a MURS transmitter is specified as follows:

(1) Emissions on frequencies 151.820 MHz, 151.880 MHz, and 151.940 MHz are limited to 11.25 kHz.

(2) Emissions on frequencies 154.570 and 154.600 MHz are limited to 20.0 kHz.

(3) Provided, however, that all A3E emissions are limited to 8 kHz.

15. Section 95.635 is amended by revising paragraph (e) to read as follows:

§ 95.635 Unwanted radiation.

* * * * *

(e) For transmitters designed to operate in the MURS, transmitters shall comply with the following:

Frequency | Mask with audio low pass filter | Mask without audio low pass filter
151.820 MHz, 151.880 MHz and 151.940 MHz | (1) | (1)
154.570 MHz and 154.600 MHz | (2) | (3)

(1) Emission Mask 1—For transmitters designed to operate with a 12.5 kHz channel bandwidth, any emission must be attenuated below the power (P) of the highest emission contained within the authorized bandwidth as follows:

(i) On any frequency from the center of the authorized bandwidth fo to 5.625 kHz removed from fo: Zero dB.

(ii) On any frequency removed from the center of the authorized bandwidth by a displacement frequency (fd in kHz) of more than 5.625 kHz but no more than 12.5 kHz: at least 7.27(fd−2.88 kHz) dB.

(iii) On any frequency removed from the center of the authorized bandwidth by a displacement frequency (fd in kHz) of more than 12.5 kHz: at least 50 + 10 log (P) dB or 70 dB, whichever is the lesser attenuation.

(2) Emission Mask 2—For transmitters designed to operate with a 25 kHz channel bandwidth that are equipped with an audio low-pass filter, the power of any emission must be below the unmodulated carrier power (P) as follows:

(i) On any frequency removed from the assigned frequency by more than 50 percent, but not more than 100 percent of the authorized bandwidth: at least 25 dB.

(ii) On any frequency removed from the assigned frequency by more than 100 percent, but not more than 250 percent of the authorized bandwidth: at least 35 dB.

(iii) On any frequency removed from the assigned frequency by more than 250 percent of the authorized bandwidth: at least 43 + 10 log (P) dB.

(3) Emission Mask 3—For transmitters designed to operate with a 25 kHz channel bandwidth that are not equipped with an audio low-pass filter, the power of any emission must be attenuated below the unmodulated carrier output power (P) as follows:

(i) On any frequency removed from the center of the authorized bandwidth by a displacement frequency (fd in kHz) of more than 5 kHz, but not more than 10 kHz: at least 83 log (fd/5) dB.

(ii) On any frequency removed from the center of the authorized bandwidth by a displacement frequency (fd in kHz) of more than 10 kHz, but not more than 250 percent of the authorized bandwidth: at least 29 log (fd²/11) dB or 50 dB, whichever is the lesser attenuation.

(iii) On any frequency removed from the center of the authorized bandwidth by more than 250 percent of the authorized bandwidth: at least 43 + 10 log (P) dB.

16. Section 95.639(h) is amended by revising paragraph (h) to read as follows:

§ 95.639 Maximum transmitter power.

* * * * *

(h) No MURS unit, under any condition of modulation, shall exceed 2 Watts transmitter power output.

17. Section 95.655 is amended by adding paragraph (d) to read as follows:

§ 95.655 Frequency capability.

* * * * *

(d) No transmitter will be certificated for use in MURS if it is equipped with a frequency capability not listed in § 95.632.

18. Section 95.1307 is revised to read as follows:

§ 95.1307 Permissible communications.

(a) MURS stations may transmit voice or data signals as permitted in this subpart.

(b) A MURS station may transmit any emission type listed in § 95.631(j) of this chapter.

(c) MURS frequencies may be used for remote control and telemetering functions. MURS transmitters may not be operated in the continuous carrier transmit mode.

(d) MURS users shall take reasonable precautions to avoid causing harmful interference. This includes monitoring the transmitting frequency for communications in progress and such other measures as may be necessary to minimize the potential for causing interference.

19. Section 95.1311 is added to read as follows:

§ 95.1311 Repeater operations and signal boosters prohibited.

MURS stations are prohibited from operating as a repeater station or as a signal booster. This prohibition includes store-and-forward packet operation.

20. Section 95.1313 is added to read as follows:

§ 95.1313 Interconnection prohibited.

MURS stations are prohibited from interconnection with the public switched network. Interconnection Defined. Connection through automatic or manual means of multi-use radio stations with the facilities of the public switched telephone network to permit the transmission of messages or signals between points in the wireline or radio network of a public telephone company and persons served by multi-use radio stations. Wireline or radio circuits or links furnished by common carriers, which are used by licensees or other authorized persons for transmitter control (including dial-up transmitter control circuits) or as an integral part of an authorized, private, internal system of communication or as an integral part of dispatch point circuits in a multi-use radio station are not considered to be interconnection for purposes of this rule part.

21. Section 95.1315 is added to read as follows:

§ 95.1315 Antenna height restriction.

The highest point of any MURS antenna must no be more than 18.3 meters (60 feet) above the ground or 6.10 meters (20 feet) above the highest point of the structure on which it is mounted.

22. Section 93.1317 is added to read as follows:

§ 95.1317 Grandfathered MURS Stations.

Stations that were licensed under Part 90 of the Commission's Rules to operate on MURS frequencies as of November 13, 2000, are granted a license by rule that authorizes continued operations under the terms of such nullified part 90 authorizations, including any rule waivers.

[FR Doc. 02-25396 Filed 10-10-02; 8:45 am]

BILLING CODE 6712-01-P